DEPARTMENT OF DEFENSE

Office of the Secretary

Proposed Collection; Comment Request

AGENCY: Real Estate and Facilities Directorate, Federal Facilities Division, Washington Headquarters Services, Department of Defense.

ACTION: Notice.

SUMMARY: In compliance with Section 3506(c)(2)(A) of the Paperwork Reduction Act of 1995, Washington Headquarters Services announces the proposed information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 7, 2003.

ADDRESSES: Written comments and recommendations on the proposed information collection should be sent to Washington Headquarters Services, Real Estate and Facilities Directorate, Federal Facilities Division, Technical Staff, Integrated Environmental Management Support, ATTN: Jennifer Judd, Room RDF1J702, 1155 Defense Pentagon, Washington, DC 20301-1155. Consideration will be given to all comments received within 60 days of the date of publication of this notice.

FOR FURTHER INFORMATION CONTACT: To request more information on this proposed information collection or to obtain a copy of the proposal and associated collection instruments, please write to the above address, or call WHS, RE&F, FFD, Technical Staff Branch at (703) 695-8004.

Title and OMB Number: Exposure and Medical Surveillance Program for the Pentagon in the Aftermath of 9-11-01; OMB Number 0704—[To be determined].

Needs and Uses: The information collection requirement is necessary to obtain and record the temporal and spatial location of those present at the Pentagon on 9-11-01 and in the three month time period that followed, and to obtain and record known or perceived exposures or symptoms of same population. The recorded information will be used to estimate possible exposure to hazardous contaminants, and to individually recommend appropriate medical follow-up.

Affected Public: Individuals, State and local governments and other responders to crash scene, visitors, construction and clean-up contractors.

Annual Burden Hours: 950 hours.

Number of Respondents: 1900.

Responses per Respondent: 1.

Average Burden per Response: 30 minutes.

Frequency: One time.

SUPPLEMENTARY INFORMATION:

Summary of Information Collection

The terrorist activity at the Pentagon on September 11, 2001, resulted in the destruction of a large amount of building materials and equipment in a devastating manner. The catastrophe has raised concerns of possible health effects, ranging from acute and temporary to longer-term and permanent, resulting from exposures to hazardous materials and air contaminants of the building occupants and first responders on September 11th, and, for some contaminants, continuing since that date. This program will enumerate potentially affected individuals, estimate their exposures on and since September 11, 2001, and based on these exposure estimates, make recommendations on an individual basis for their appropriate medical follow-up. Collecting symptomatic and location information from individuals at and near the crash site is essential in executing a thorough and accurate medical surveillance program.

Dated: January 31, 2003.
Patricia L. Toppings,
Alternate OSD Federal Register Liaison Officer, Department of Defense.

[FR Doc. 03-2819 Filed 2-5-03; 8:45 am]

BILLING CODE 5001-08-M